DEPARTMENT OF HEALTH AND HUMAN SERVICES

Public Meeting of the President's Council on Bioethics on January 16-17, 2003

AGENCY: The President's Council on Bioethics, HHS.

ACTION: Notice.

SUMMARY: The President's Council on Bioethics will hold its ninth meeting, at which it will discuss, among other things the ethics of organ procurement and the role of the U.S. Food and Drug Administration (FDA) in public policy related to biotechnology. Subjects discussed at past Council meetings include: human cloning; embryonic stem cell research; the patentability of human organisms; extratherapeutic powers to enhance or improve human mood, memory, and muscles; research to extend the human lifespan; current and projected uses of preimplantation genetic diagnosis and screening (PGD); new techniques for choosing the sex of children; prospects for inheritable genetic modification (IGM); international models of biotech regulation; and the use of stimulants and related drugs to affect the behavior of children.

DATES: The meeting will take place Thursday, January 16, 2003, from 9 a.m. to 5:15 p.m. ET; and Friday, January 17, 2003, from 8:30 a.m. to 12:30 p.m. ET.

ADDRESSES: Grand Hyatt Washington at Washington Center, 1000 H Street, NW, Washington, DC 20001.

Public Comments: The meeting agenda will be posted at http://www.bioethics.gov. Members of the public may submit written statements for the Council's records. Please submit statements to Ms. Diane Gianelli, Director of Communications (tel. 202/296-4669 or e-mail info@bioethics.gov). The public may also express comments during the time set aside for this purpose, beginning at 11 a.m. ET, on Friday, January 17, 2003. Comments will be limited to no more than five minutes per speaker or organization. Please give advance notice of such statements to Ms. Gianelli at the phone number given above, and be sure to include name, affiliation, and a brief description of the topic or nature of the statement.

FOR FURTHER INFORMATION CONTACT: Diane Gianelli, 202/296-4669, or visit http://www.bioethics.gov.

Dated: December 23, 2002.
Dean Clancy,
Executive Director, The President's Council on Bioethics.

[FR Doc. 02-33116 Filed 12-31-02; 8:45 am]

BILLING CODE 4161-90-P